SMALL BUSINESS ADMINISTRATION

[Declaration of Economic Injury Disaster #9I06]

State of Alaska

The Regional Education Attendance Areas (REAAs) of Bering Straits (#2), Lower Yukon (#3), Lower Kuskokwim (#4), Kuspuk (#5), Iditarod (#11), Yukon-Koyukuk (#12), Yukon Flats (13), and Yupiit (#23), as well as the contiguous Boroughs of Bristol Bay, Denali, Fairbanks North Star, Kenai Peninsula, Lake and Peninsula, Matanuska Susitna, North Slope, and Northwest Arctic, and the contiguous REAAs of Alaska Gateway (#16) and Kashunamiut (#22) constitute an economic injury disaster area as a result of a fishery resource disaster, as determined by the Secretary of Commerce, due to extremely low salmon returns beginning in 1997 and continuing. Eligible small businesses and small agricultural cooperatives without credit available elsewhere may file applications for economic injury assistance for this disaster until the close of business on May 9, 2001 at the address listed below or other locally announced locations: U.S. Small Business Administration, Disaster Area 4 Office, P.O. Box 13795, Sacramento, CA 95853-4795.

The interest rate for eligible small businesses and small agricultural cooperatives is 4 percent.

(Catalog of Federal Domestic Assistance Program No. 59002)
Dated: August 9, 2000.
Kris Swedin,
Acting Administrator.

[FR Doc. 00-20875 Filed 8-16-00; 8:45 am]

BILLING CODE 8025-01-P